ENVIRONMENTAL PROTECTION AGENCY

[FRL-10016-78-OAR]

RIN 2060-AT31

Fuels Regulatory Streamlining Implementation; Notification of Workshop

AGENCY: Environmental Protection Agency (EPA).

ACTION: Notification of workshop.

SUMMARY: The Environmental Protection Agency (EPA) is announcing a virtual workshop on the Fuels Regulatory Streamlining rule ahead of its implementation date of January 1, 2021.

DATES: The virtual workshop will be held on December 9-10, 2020. Additional information regarding the workshop appears below under SUPPLEMENTARY INFORMATION.

ADDRESSES: All attendees must pre-register for the workshop by notifying the contact person listed under FOR FURTHER INFORMATION CONTACT by December 2, 2020. Additional information related to the workshop will be posted on the EPA website at: https://www.epa.gov/diesel-fuel-standards/fuels-regulatory-streamlining. Interested parties should check the website for any updated information.

FOR FURTHER INFORMATION CONTACT: Nick Parsons, Office of Transportation and Air Quality, Assessment and Standards Division, Environmental Protection Agency; telephone number: (734) 214-4479; email address: ASD-Registration@epa.gov.

SUPPLEMENTARY INFORMATION: EPA is hosting a virtual workshop to discuss the implementation of 40 CFR part 1090 (“Part 1090”) ahead of its implementation date of January 1, 2021. The Fuels Regulatory Streamlining final rule was signed on October 15, 2020. This rule streamlines and modernizes EPA's fuel quality regulations previously under 40 CFR part 80 (“Part 80”) to help reduce administrative burden for stakeholders, while improving overall compliance assurance and maintaining environmental performance.

The virtual workshop will provide the opportunity for EPA to update stakeholders on its progress regarding the implementation of Part 1090 and for stakeholders to inquire about the regulatory requirements of Part 1090 prior to its implementation date of January 1, 2021. The workshop will cover a broad range of topics related to the implementation of the Part 1090 regulations and how the Part 1090 regulations relate to the previous Part 80 regulations.

Dated: November 12, 2020.
Byron J. Bunker,
Director, Compliance Division, Office of Transportation and Air Quality.

[FR Doc. 2020-25653 Filed 11-19-20; 8:45 am]

BILLING CODE 6560-50-P